COMMITTEE FOR PURCHASE FROM PEOPLE WHO ARE BLIND OR SEVERELY DISABLED

Procurement List; Additions

AGENCY: Committee for Purchase From People Who Are Blind or Severely Disabled.

ACTION: Additions to Procurement List.

SUMMARY: This action adds to the Procurement List products and services to be furnished by nonprofit agencies employing persons who are blind or have other severe disabilities.

EFFECTIVE DATE: August 24, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: On December 6, 2002, May 9, and May 16, 2003, the Committee for Purchase From People Who Are Blind or Severely Disabled published notice (67 FR 72640, 68 FR 24919, and 26566/26567) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

(End of Certification)

Accordingly, the following products and services are added to the Procurement List:

Products

Product/NSN: Fluid Element Filter,

2940-00-832-6054.

NPA: Gaston Skills, Inc., Gastonia, North Carolina.

Contract Activity: Defense Supply Center Columbus, Columbus, Ohio.

Product/NSN: Supply Cup,

7510-00-161-6211.

NPA: The Lighthouse for the Blind in New Orleans, New Orleans, Louisiana.

Contract Activity: Office Supplies & Paper Products Acquisition Center, New York, New York.

Services

Service Type/Location: Custodial Services, Franklin D. Roosevelt Library, Hyde Park, New York.

NPA: Gateway Community Industries, Inc., Kingston, New York.

Contract Activity: National Archives & Records Administration, College Park, Maryland.

Service Type/Location: Custodial Services, U.S. Border Station, Old Champlain Farm, Champlain, New York.

NPA: Clinton County Chapter, NYSARC, Inc., Plattsburgh, New York.

Contract Activity: GSA/PBS Upstate New York Service Center, Syracuse, New York.

Service Type/Location: Janitorial/Custodial, FAA, ATCT & FSDO, Gerald Ford International Airport, Grand Rapids, Michigan.

NPA: Hope Network Services Corporation, Grand Rapids, Michigan.

Contract Activity: Federal Aviation Administration, Des Plaines, Illinois.

Service Type/Location: Janitorial/Custodial, U.S. Army Reserve Center Garden Grove, Garden Grove, California.

NPA: Lincoln Training Center and Rehabilitation Workshop, South El Monte, California.

Contract Activity: 63rd Regional Support Command, Los Alamitos, California.

Service Type/Location: Janitorial/Custodial, U.S. Army Reserve Center, Eau Claire, Wisconsin.

NPA: L.E. Phillips Career Development Center, Inc., Eau Claire, Wisconsin.

Contract Activity: Headquarters, 88th Regional Support Command, Fort Snelling, Minnesota.

Service Type/Location: Janitorial/Custodial, U.S. Army Reserve Center, Fairmont, West Virginia, U.S. Army Reserve Center, Grafton, West Virginia, U.S. Army Reserve Center, New Martinsville, West Virginia.

NPA: PACE Training and Evaluation Center, Inc., Star City, West Virginia.

Contract Activity: 99th Regional Support Command, Coraopolis, Pennsylvania.

Service Type/Location: Janitorial/Custodial, U.S. Army Reserve Center, Walker, Michigan.

NPA: Hope Network Services Corporation, Grand Rapids, Michigan.

Contract Activity: Headquarters, 88th Regional Support Command, Fort Snelling, Minnesota.

This action does not affect current contracts awarded prior to the effective date of this addition or options that may be exercised under those contracts.

Sheryl D. Kennerly,
Director, Information Management.

[FR Doc. 03-18980 Filed 7-24-03; 8:45 am]

BILLING CODE 6353-01-P